ENVIRONMENTAL PROTECTION AGENCY

40 CFR Part 52

[EPA-R03-OAR-2011-0818; FRL-9619-7]

Approval and Promulgation of Air Quality Implementation Plans; Pennsylvania; Determinations of Clean Data for the 2006 24-Hour Fine Particulate Standard for the Harrisburg-Lebanon-Carlisle-York, Allentown, Johnstown, and Lancaster Nonattainment Areas

AGENCY: Environmental Protection Agency (EPA).

ACTION: Proposed rule.

SUMMARY: EPA is proposing to determine that the Harrisburg-Lebanon-Carlisle-York, Allentown, Johnstown, and Lancaster nonattainment areas (hereafter referred to as “Areas”) for the 2006 24-hour fine particulate matter (PM2.5) National Ambient Air Quality Standard (NAAQS) have clean data for the 2006 24-hour PM2.5 NAAQS. These proposed determinations are based upon quality-assured, quality-controlled, and certified ambient air monitoring data showing that these areas have monitored attainment of the 2006 PM2.5 NAAQS based on the 2008-2010 data available in EPA's Air Quality System (AQS) database. If these proposed determinations are made final, the requirements for these Areas to submit an attainment demonstration, associated reasonably available control measures (RACM), a reasonable further progress plan (RFP), contingency measures, and other planning State Implementation Plans (SIPs) related to attainment of the standard shall be suspended for so long as these Areas continue to meet the 2006 24-hour PM2.5 NAAQS. This action is being taken under the Clean Air Act (CAA).

DATES: Written comments must be received on or before February 21, 2012.

ADDRESSES: Submit your comments regarding the two-state Harrisburg-Lebanon-Carlisle-York, Allentown, Johnstown, and Lancaster area, identified by Docket ID Number EPA-R03-OAR-2011-0818 by one of the following methods:

A. www.regulations.gov. Follow the on-line instructions for submitting comments.

B. Email: fernandez.cristina@epa.gov.

C. Mail: EPA-R03-OAR-2011-0818, Cristina Fernandez, Associate Director, Office of Air Program Planning, Mailcode 3AP30, U.S. Environmental Protection Agency, Region III, 1650 Arch Street, Philadelphia, Pennsylvania 19103.

D. Hand Delivery: At the previously-listed EPA Region III address. Such deliveries are only accepted during the Docket's normal hours of operation, and special arrangements should be made for deliveries of boxed information.

Instructions: Direct your comments to Docket ID No. EPA-R03-OAR-2011-0818. EPA's policy is that all comments received will be included in the public docket without change, and may be made available online at www.regulations.gov, including any personal information provided, unless the comment includes information claimed to be Confidential Business Information (CBI) or other information whose disclosure is restricted by statute. Do not submit information that you consider to be CBI or otherwise protected through www.regulations.gov or email. The www.regulations.gov Web site is an “anonymous access” system, which means EPA will not know your identity or contact information unless you provide it in the body of your comment. If you send an email comment directly to EPA without going through www.regulations.gov, your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the electronic docket are listed in the www.regulations.gov index. Although listed in the index, some information is not publicly available, i.e., CBI or other information whose disclosure is restricted by statute. Certain other material, such as copyrighted material, is not placed on the Internet and will be publicly available only in hard copy form. Publicly available docket materials are available either electronically in www.regulations.gov or in hard copy during normal business hours at the Air Protection Division, U.S. Environmental Protection Agency, Region III, 1650 Arch Street, Philadelphia, Pennsylvania 19103.

FOR FURTHER INFORMATION CONTACT: Irene Shandruk, (215) 814-2166, or by email at shandruk.irene@epa.gov.

SUPPLEMENTARY INFORMATION: Throughout this document whenever “we,” “us,” or “our” is used, we mean EPA.

The following outline is provided to aid in locating information in this preamble.

I. What action is EPA taking?

II. What is the effect of this action?

III. What is the background for this action?

IV. What is EPA's analysis of the relevant air quality data?

V. What is EPA's proposed action?

VI. Statutory and Executive Order Reviews

I. What action is EPA taking?

EPA is proposing to determine that these Areas have clean data for the 2006 24-hour PM2.5 NAAQS. These determinations are based upon quality-assured, quality-controlled, and certified ambient air monitoring data showing that these Areas have monitored attainment of the 2006 PM2.5 NAAQS based on 2008-2010 monitoring data.

II. What is the effect of this action?

If these determinations are made final, under the provisions of EPA's PM2.5 implementation rule (40 CFR 51.1004(c)), the requirements for these Areas to submit an attainment demonstration, associated RACM, RFP plan, contingency measures, and any other planning SIP requirements related to attainment of the 2006 24-hour PM2.5 NAAQS would be suspended for so long as these Areas continue to meet this NAAQS. Furthermore, as described below, a final clean data determination would not be equivalent to a redesignation of any of these Areas to attainment for the 2006 24-hour PM2.5 NAAQS.

If EPA subsequently determines that these Areas are in violation of the 2006 24-hour PM2.5 NAAQS, the basis for the suspension of the specific requirements, set forth at 40 CFR 51.1004(c), would no longer exist and these Areas would thereafter have to address the pertinent requirements.

These proposed clean data determinations that the air quality data shows attainment of the 2006 24-hour PM2.5 NAAQS is not equivalent to the redesignation of these Areas to attainment. This proposed action, if finalized, will not constitute a redesignation to attainment under section 107(d)(3) of the CAA because we would not yet have an approved maintenance plan for these Areas as required under section 175A of the CAA, nor determinations that these Areas have met the other requirements for redesignation. The designation status of these Areas would remain nonattainment for the 2006 PM2.5 NAAQS until such time as EPA determines that these Areas meet the CAA requirements for redesignation to attainment.

III. What is the background for this action?

The 2006 PM2.5 NAAQS set forth at 40 CFR 50.13 became effective on December 18, 2006 (71 FR 61144) and promulgated a 24-hour standard of 35 micrograms per cubic meter (μg/m³) based on a 3-year average of the 98th percentile of 24-hour concentration. On December 14, 2009 (74 FR 58688), EPA made designation determinations, as required by CAA section 107(d)(1), for the 2006 24-hour PM2.5 NAAQS. The Harrisburg-Lebanon-Carlisle-York, Allentown, Johnstown, and Lancaster areas are designated as nonattainment for the 2006 24-hour PM2.5 NAAQS.

IV. What is EPA's analysis of the relevant air quality data?

EPA has reviewed the ambient air monitoring data, consistent with the requirements contained in 40 CFR part 50 and recorded in EPA's AQS database for the Harrisburg-Lebanon-Carlisle-York, Allentown, Johnstown, and Lancaster PM2.5 nonattainment areas from 2008 through the present time. On the basis of that review, EPA has concluded that these Areas meet the 2006 24-hour PM2.5 NAAQS based on the 2008-2010 data available in EPA's AQS database.

Under EPA regulations in 40 CFR part 50, section 50.13 and in accordance with appendix N, the 24-hour primary and secondary PM2.5 standards are met when the 98th percentile 24-hour concentration is less than or equal to 35 μg/m³. Table 1 shows the design values for the 2006 24-hour PM2.5 NAAQS for the years 2008-2010. One new monitor (ID# 420950027) was placed in 2010 in the Allentown nonattainment area because the 2006-2008 data for the existing monitor (ID# 420950025) in the area was greater than 85% of the 24-hour PM2.5 NAAQS as required by 40 CFR part 58, appendix D, Table D-5. EPA's review of the data indicates that the Harrisburg-Lebanon-Carlisle-York, Allentown, Johnstown, and Lancaster PM2.5 nonattainment areas meet the 2006 PM2.5 NAAQS.

Table 1—24-Hour PM2.5 Values for Four Pennsylvania Nonattainment Areas *
State | County | Monitor ID | 2008 Mean (μg/m³) | 2009 Mean (μg/m³) | 2010 Mean (μg/m³) | Certified design value 2008-2010 (μg/m³)
Harrisburg-Lebanon-Carlisle-York
Pennsylvania | Cumberland | 420410101 | 33.7 | 29.9 | 31.4 | 32
| Dauphin | 420430401 | 34.3 | 33.0 | 32.9 | 33
| Lebanon | No monitor |  |  |  |
| York | No monitor |  |  |  |
Allentown
| Northampton | 420950025 | 33.1 | 30.1 | 33.3 | 32
| Northampton | 420950027 |  |  | 27.6 | 28
| Lehigh | No monitor |  |  |  |
Johnstown
| Cambria | 420210011 | 32.2 | 28.7 | 30.2 | 30
| Indiana (part) | No monitor |  |  |  |
Lancaster
| Lancaster | 420710007 | 35.0 | 29.4 | 34.1 | 33
* The data presented in Table 1 are available at http://www.epa.gov/air/airtrends/values.html.

V. What is EPA's proposed action?

EPA is proposing to determine that the Areas have clean data for the 2006 24-hour PM2.5 NAAQS. As provided in 40 CFR 51.1004(c), if EPA finalizes these determinations, they will suspend the requirements for these Areas to submit an attainment demonstration, associated RACM, RFP, contingency measures, and any other planning SIP requirements related to the attainment of the 2006 PM2.5 NAAQS, so long as these Areas continue to meet the standard. EPA is soliciting public comments on the issues discussed in this document. These comments will be considered before taking final action.

VI. Statutory and Executive Order Reviews

This action proposes to make attainment determinations based on air quality data and would not, if finalized, result in the suspension of certain Federal requirements and would not impose any additional requirements. For that reason, this proposed action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, this proposed rulemaking that the Harrisburg-Lebanon-Carlisle-York, Allentown, Johnstown, and Lancaster PM2.5 nonattainment areas have clean data for the 2006 24-hour PM2.5 standard does not have tribal implications as specified by Executive Order 13175 (65 FR 67249, November 9, 2000), because the SIP is not approved to apply in Indian Country located in the state, and EPA notes that it will not impose substantial direct costs on tribal governments or preempt tribal law.

List of Subjects in 40 CFR Part 52

Environmental protection, Air pollution control, Particulate matter, Reporting and recordkeeping requirements.

Authority: 42 U.S.C. 7401 et seq.

Dated: January 3, 2012.
W.C. Early,
Acting Regional Administrator, Region III.

[FR Doc. 2012-1120 Filed 1-19-12; 8:45 am]

BILLING CODE 6560-50-P